DEPARTMENT OF COMMERCE

International Trade Administration

[C-533-870, C-570-035, C-542-801]

Certain New Pneumatic Off-The-Road Tires From India, the People's Republic of China, and Sri Lanka: Postponement of Preliminary Determinations of Countervailing Duty Investigations

AGENCY: Enforcement and Compliance, International Trade Administration, Department of Commerce.

DATES: Effective: February 25, 2016.

FOR FURTHER INFORMATION CONTACT: Spencer Toubia at (202) 482-0123 (India); Laurel LaCivita at (202) 482-4243 (the People's Republic of China (PRC)); and Elizabeth Eastwood at (202) 482-3874 (Sri Lanka), AD/CVD Operations, Enforcement and Compliance, International Trade Administration, U.S. Department of Commerce, 14th Street and Constitution Avenue NW., Washington, DC 20230.

SUPPLEMENTARY INFORMATION:

Background

On February 3, 2016, the Department of Commerce (Department) initiated countervailing duty investigations (CVD) on certain new pneumatic off-the-road tires from India, the PRC, and Sri Lanka.¹ Currently, the preliminary determinations of these investigations are due no later than April 8, 2016.

¹ See Certain New Pneumatic Off-The-Road Tires from India, the People's Republic of China, and Sri Lanka: Initiation of Countervailing Duty Investigations, 81 FR 7067 (February 10, 2016).

Postponement of Preliminary Determination

Section 703(b)(1) of the Tariff Act of 1930, as amended (the Act), requires the Department to issue the preliminary determination in a CVD investigation within 65 days after the date on which the Department initiated the investigation. However, if the petitioner makes a timely request for a postponement, section 703(c)(1)(A) of the Act allows the Department to postpone making the preliminary determination until no later than 130 days after the date on which the Department initiated the investigation.

On February 12, 2016, the petitioners ² submitted timely requests pursuant to section 703(c)(1)(A) of the Act and 19 CFR 351.205(e) to postpone the preliminary determinations.³ For the reasons stated above and because there are no compelling reasons to deny the requests, the Department, in accordance with section 703(c)(1)(A) of the Act, is postponing the deadline for the preliminary determinations to no later than 130 days after the day on which the investigations were initiated. Accordingly, the Department will issue the preliminary determinations no later than June 12, 2016. However, because June 12, 2016, falls on a Sunday, the preliminary determinations are now due no later than June 13, 2016.⁴ In accordance with section 705(a)(1) of the Act and 19 CFR 351.210(b)(1), the deadline for the final determinations of these investigations will continue to be 75 days after the date of the preliminary determinations, unless postponed at a later date.

² Titan Tire Corporation and the United Steel, Paper and Forestry, Rubber, Manufacturing, Energy, Allied Industrial and Service Workers International Union, AFL-CIO, CLC (collectively, the petitioners).

³ See letters from the petitioners entitled “Certain New Pneumatic Off-The-Road Tires from India—Petitioners' Request to Extend the Deadline for the Preliminary Determinations,” “Certain New Pneumatic Off-the-Road Tires from People's Republic of China—Petitioners' Request to Extend the Deadline for the Preliminary Determination,” and “Certain New Pneumatic Off-The-Road Tires from Sri Lanka—Petitioners' Request to Extend the Deadline for the Preliminary Determinations,” each dated February 12, 2016.

⁴ See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: February 18, 2016.
Ronald K. Lorentzen,
Acting Assistant Secretary for Enforcement and Compliance.

[FR Doc. 2016-04064 Filed 2-24-16; 8:45 am]

BILLING CODE 3510-DS-P